NATIONAL AERONAUTICS AND SPACE ADMINISTRATION

[Notice 01-079]

NASA Advisory Council (NAC), Space Science Advisory Committee (SScAC), Solar System Exploration Subcommittee

AGENCY: National Aeronautics and Space Administration.

ACTION: Notice of meeting.

SUMMARY: In accordance with the Federal Advisory Committee Act, Pub. L. 92-463, as amended, the National Aeronautics and Space Administration announces a meeting of the NASA Advisory Council, Space Science Advisory Committee, Solar System Exploration Subcommittee.

DATES: Wednesday, July 18, 2001, 8:30 a.m. to 5 p.m.; Thursday, July 19, 2001, 8:30 a.m. to 5 p.m., Friday, July, 20, 2001, 8:30 a.m. 2 p.m.

ADDRESSES: National Aeronautics and Space Administration, Conference Room 7H46, 300 E Street, SW, Washington, DC 20546.

FOR FURTHER INFORMATION CONTACT: Jay Bergstralh, Code S, National Aeronautics and Space Administration, Washington, DC 20546, (202) 358-1588

SUPPLEMENTARY INFORMATION: The meeting will be open to the public up to the capacity of the room. The agenda for the meeting is as follows:

—Solar System Program Update

—Space Science Update

—Mars Program

—Outer Planets Program

—Planetary Data System

—Astrobiology Report

It is imperative that the meeting be held on these dates to accommodate the scheduling priorities of the key participants. Visitors will be requested to sign a visitor's register.

Dated: June 18, 2001.
Beth M. McCormick,
Advisory Committee Management Officer, National Aeronautics and Space Administration.

[FR Doc. 01-15706 Filed 6-21-01; 8:45 am]

BILLING CODE 7510-01-U